DEPARTMENT OF TRANSPORTATION

Federal Highway Administration

Final Federal Agency Actions on Proposed Bridge Replacement in Massachusetts

AGENCY: Federal Highway Administration (FHWA), DOT.

ACTION: Notice of Limitations on Claims for Judicial Review of Actions by the Army Corps of Engineers, (USACE) and the United States Coast Guard (USCG).

SUMMARY: This notice announces action taken by the United States Army Corps of Engineers (USACE) and the United States Coast Guard (USCG) that is final within the meaning of 23 U.S.C. 139(l)(1). The action relates to the proposed Fore River Bridge (State Route 3A over the Weymouth Fore River) replacement project in Quincy and Weymouth, Norfolk County, Massachusetts. The action grants licenses, permits, and approvals for the project.

DATES: By this notice, the FHWA is advising the public of final agency actions subject to 23 U.S.C. 139(l)(1). A claim seeking judicial review of the Federal agency actions on the highway project will be barred unless the claim is filed on or before December 24, 2012. If the Federal law that authorizes judicial review of a claim provides a time period of less than 180 days for filing such claim, then that shorter time period still applies.

FOR FURTHER INFORMATION CONTACT: For FHWA: Damaris Santiago, Environmental Engineer, FHWA Massachusetts Division Office, 55 Broadway, 10th Floor, Cambridge, MA 02142, 617-494-2419, dsantiago@dot.gov. For Massachusetts Department of Transportation Highway Division (MassDOT): Michael Furlong, Project Manager, Environmental Services, 10 Park Plaza, Room 4260, Boston, MA 02116, Monday through Friday 8:45 a.m.-5:00 p.m., 617-973-8067. michael.furlong@state.ma.us.

SUPPLEMENTARY INFORMATION: On January 11, 2012, the FHWA published “Notice of Final Federal Agency Actions on Proposed Bridge in Massachusetts” in the Federal Register at 77 FR 1782. The proposed project involves the replacement of the temporary bridge over the Weymouth Fore River in Quincy and Weymouth,

Massachusetts with a vertical lift bridge, as well as reconstruction of the immediate approaches. The bridge will provide a 250-foot navigable, horizontal opening with a 175-foot vertical clearance on the same alignment of the 1936 bridge, and will have two travel lanes in each direction, shoulders, and sidewalks. The Finding of No Significant Impact (FONSI) for this project was issued December 12, 2011. Notice is hereby given that, subsequent to the earlier FHWA notice, the USACE and USCG have taken final agency actions within the meaning of 23 U.S.C. 139(l)(1) by issuing permits and approvals for the bridge project. The actions by the USACE and USCG, related final actions by other Federal agencies, and the laws under which such actions were taken, are described in the USACE and USCG decisions and its administrative record for the project, referenced as USACE Permit Numbers NAE-2009-360A and NAE-2009-360B, and USCG Bridge Permit number 1-12-1. That information is available by contacting the Massachusetts Department of Transportation at the address provided above.

Information about the project also is available from the FHWA at the address provided above. The FHWA FONSI, and the USACE and USCG decisions can also be viewed and downloaded from the project Web site at: http://www.massdotprojectsforeriverbridge.info/.

This notice applies to all USACE, USCG and other Federal agency final actions taken after the issuance date of the FHWA Federal Register notice described above. The laws under which actions were taken include, but are not limited to:

(1) The General Bridge Act of 1946.

(2) Section 404 of the Clean Water Act of 1972.

(3) Section 9 & 10 of the Rivers and Harbors Act of 1899, as applicable.

Authority: 23 U.S.C. 139(l)(1).

Issued on: June 14, 2012.
Pamela S. Stephenson,
Division Administrator, Cambridge, MA.

[FR Doc. 2012-15243 Filed 6-22-12; 8:45 am]

BILLING CODE 4910-RY-M